DEPARTMENT OF TRANSPORTATION

Federal Aviation Administration

14 CFR Part 71

[Docket No. FAA-2025-2232; Airspace Docket No. 25-ACE-3]

RIN 2120-AA66

Amendment of Class D and Class E Airspace, Establishment of Class E Airspace, and Revocation of Class E; Wichita, KS

AGENCY: Federal Aviation Administration (FAA), DOT.

ACTION: Final rule.

SUMMARY: This action amends the Class D and Class E airspace, establishes Class E airspace, and revokes Class E airspace at Wichita, KS. The name of Wichita Dwight D. Eisenhower National Airport, Wichita, KS; the geographic coordinates of Augusta Municipal Airport, Augusta, KS; and the name and geographic coordinates of the McConnell AFB, Wichita, KS, and the Wichita Dwight D. Eisenhower NTL: RWY 01R-LOC are also being updated to coincide with the FAA's aeronautical database. These actions accommodate a U.S. Air Force request to change the McConnell AFB Class D airspace from full-time to part-time and to establish part-time Class E surface airspace, and the associated airspace reviews conducted to accommodate this request. It also brings the airspace into compliance with FAA orders and supports instrument flight rule (IFR) procedures and operations.

DATES: Effective 0901 UTC, March 19, 2026. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from www.federalregister.gov.

FAA Order JO 7400.11K, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends, establishes, or removes Class D and Class E airspace at the affected airport to support IFR operations.

History

The FAA published an NPRM for Docket No. FAA-2025-2232 in the Federal Register (90 FR 38615; August 11, 2025) proposing to amend the Class D and Class E airspace, establish Class E airspace, and revoke Class E airspace at Wichita, KS. Interested parties were invited to participate in this rulemaking effort by submitting written comments on the proposal to the FAA. Three (3) comments were received. The three commenters agreed with each other. The commenters supported the proposed amendment to the northern boundary of the Beech Factory Airport Class D airspace. However, one commenter, with the two other commenters in concurrence, suggested changes to the Beech Factory Airport Class D airspace and McConnell AFB Class D airspace. Specifically, the commenter suggested changes to the proposed eastern, western, and southern boundaries of the Beech Factory Airport Class D airspace. The commenter also recommended removing the one-mile exclusion zone and instead using his proposed boundaries for Beech Factory Airport Class D airspace as the exclusion zone. In addition, the commenter suggested reducing the radius to 4.4 miles for McConnell AFB Class D airspace so that a medical center and elementary school would be outside of the airspace. The commenter believed these facilities should be outside the airspace due to a high number of medevac helicopter flights and a popular hot air balloon launch site located in the vicinity. Lastly, the commenter proposed that the McConnell AFB Class D airspace not include his suggested Beech Class D airspace. The following responses are provided.

The Class D airspace proposed by Mr. Condon—and concurred with by Mr. Rogers and Mr. Pitt—for Beech Factory Airport, Wichita, KS, is not feasible as it does not comply with the airspace requirements for Class D airspace outlined in FAA Order JO 7400.2R, Procedures for Handling Airspace Matters. While Beech Factory Airport air traffic control may not be utilizing the western portion of the current airspace, FAA Order JO 7400.2R requires that airspace to allow for diverse departures. This is the same reason that the proposed western boundary is not feasible. And the proposed southern boundary exceeds that necessary for operations out of Beech Factory Airport. Additionally, the proposed 1-mile cutout increases the operational area around Beech Factory Airport beyond the current airspace allocation.

The current airspace orientation was agreed upon by Beech Factory Airport and Colonel James Jabara Airport when the Beech Factory Airport Class D and E airspace were established in 2019. The Beech Factory Airport air traffic manager and Colonel James Jabara Airport management were given an opportunity to review the proposed airspace. Neither provided any feedback nor requested any changes to the current airspace or the airspace as proposed.

As for the commenters' concerns regarding hot air balloon operations at Andover Central Park and Tanglewood, hot air balloon operations are regulated by 14 CFR part 101, which includes operating in Class D airspace. Those operations are assumed to be currently complying with part 101 without issue so there do not appear to be any issues with current hot air balloon operations, and the airspace changes do not change the part 101 requirements.

As for the commenters' recommendation that the McConnell AFB, Wichita, KS, Class D airspace radius not be increased to 4.6 miles but instead be decreased to 4.4 miles, this increase is required to protect diverse departures and instrument procedures as required by FAA Order JO 7400.2R, so the recommendation cannot be accommodated.

Regarding the commenters' concern that the proposed airspace would infringe on operations from Wesley Medical Center Heliport, Wichita, KS, the heliport is already within the Beech Factory Airport Class D airspace. These changes will not change the operating procedures for the heliport, and would only possibly change which facility is communicated with. Operations can be further accommodated by a letter of agreement between Wesley Medical Center Heliport, Beech Factory Airport air traffic control, and McConnell AFB in accordance with FAA Order JO 7210.3EE, Facility Operation and Administration, if needed.

Differences From the NPRM

This NPRM had a typographic error in the Beech Factory Airport Class D airspace legal description, “. . . but excluding 2,700 feet . . .” should have been “. . . and including 2,700 feet . . .” Additionally, the “Wichita Dwight D. Eisenhower International Airport” should be the “Wichita Dwight D. Eisenhower National Airport” and the “Wichita Dwight D. Eisenhower Intl: RWY 01R-LOC” should be the “Wichita Dwight D. Eisenhower NTL: RWY 01R-LOC” in the Wichita, KS, Class E airspace extending upward from 700 feet above the surface. As these typographic errors do not change the boundaries of the airspace as they currently exist or as proposed or impose any additional requirements on users of the airspace, the FAA has determined that good cause exists for not recirculating this action for public comment, and the errors are being corrected in this action.

The NPRM described the Wichita Dwight D. Eisenhower National Airport Class E airspace extension as “That airspace extending upward from the surface within 7.2 miles each side of the 126° bearing from the Wichita VORTAC extending from the airport to 7.8 miles northwest of the airport.” A clearer legal description has been determined to be, “That airspace extending upward from the surface within 7.2 miles each side of the 126° bearing from the Wichita VORTAC extending from the Wichita VORTAC 126° bearing at 1.3 miles southeast to the Wichita VORTAC 126° bearing at 9.2 miles.” This modification of the airspace legal description does not change the airspace as proposed but provides a clearer, less confusing description of the airspace. As this change does not change the boundaries of the proposed airspace or impose any additional requirements on users of the airspace, the FAA has determined that good cause exists for not recirculating this action for public comment, and the change is being corrected in this action.

The NPRM listed the line separating the Beech Factory Airport Class D airspace and Class E surface airspace and the Colonel James Jabara Airport Class E surface airspace as “. . . from lat 37°43′22″ N, long 097°18′26″ W to lat 37°43′23″ N, long 097°07′49″ W. . .” A more accurate line has been determined to be “. . . from lat 37°43′22″ N, long 097°18′21″ W to lat 37°43′23″ N, long 097°07′48″ W.” As this adjustment does not change the boundaries of the airspace as proposed or impose any additional requirements on users of the airspace, the FAA has determined that good cause exists for not recirculating this action for public comment, and the change is being corrected in this action.

Incorporation by Reference

Class D and E airspace designations are published in paragraphs 5000 and 6005 of FAA Order JO 7400.11, Airspace Designations and Reporting Points, which is incorporated by reference in 14 CFR 71.1 on an annual basis. This document amends the current version of that order, FAA Order JO 7400.11K, dated August 4, 2025 and effective September 15, 2025. These amendments will be published in the next update to FAA Order JO 7400.11. FAA Order JO 7400.11K, which lists Class A, B, C, D, and E airspace areas, air traffic service routes, and reporting points, is publicly available as listed in the ADDRESSES section of this document.

The Rule

This action amends 14 CFR part 71 by modifying the Class D and E airspace in the Wichita, Kansas area as the result of a U.S. Air Force request to change the McConnell AFB, Wichita, KS, Class D airspace from full-time to part-time and to establish part-time Class E surface airspace and the associated airspace reviews affected by the request.

For the Beech Factory Airport, Wichita, KS, Class D airspace, this action: (1) expands the radius from 4.2 miles to 4.4 miles; (2) removes the name of the airport from the airspace legal description header to comply with changes to FAA Order JO 7400.2R, Procedures for Handling Airspace Matters; (3) removes the city associated with the airport in the airspace legal description to comply with changes to FAA Order JO 7400.2R; (4) adds an exclusion for the McConnell AFB, Wichita, KS, Class E surface area; and (5) changes the coordinates of the boundary line from “lat. 37°43′07″ N, long. 97°17′51″ W to lat. 37°43′47″ N, long. 97°08′21″ W” to “lat 37°43′22″ N, long 097°18′21″ W to lat 37°43′23″ N, long 097°07′48″ W” to account for the expansion of the Class D airspace and Class E surface airspace at Beech Factory Airport and Colonel James Jabara Airport, Wichita, KS.

For the McConnell AFB Class D airspace, this action: (1) expands the radius from 4.5 miles to 4.6 miles; (2) removes the name of the airport from the airspace legal description header to comply with changes to FAA Order JO 7400.2R; (3) removes the city associated with the airport from the airspace legal description to comply with changes to FAA Order JO 7400.2R; (4) adds an exclusion area within a 1-mile radius of the Beech Factory Airport; (5) updates the name of the Wichita Mid-Continent Airport, KS, Class C area to Wichita, KS, Class C area to coincide with a change to the airspace legal description; and (6) adds part-time language to the airspace legal description.

For the Beech Factory Airport Class E surface airspace, this action: (1) increases the radius from 4.2 miles to 4.4 miles; (2) removes the name of the airport from the airspace legal description header to comply with changes to FAA Order JO 7400.2R; (3) removes the city associated with the airport in the airspace legal description to comply with changes to FAA Order JO 7400.2R; (4) adds an exclusion for the McConnell AFB Class E surface area; and (5) changes the coordinates of the boundary line from “lat. 37°43′07″ N, long. 97°17′51″ W to lat. 37°43′47″ N, long. 97°08′21″ W” to “lat 37°43′22″ N, long 097°18′21″ W to lat 37°43′23″ N, long 097°07′48″ W” to account for the expansion of the Class D airspace and Class E surface airspace at Beech Factory Airport and Colonel James Jabara Airport.

For the Colonel James Jabara Airport Class E surface airspace, this action: (1) increases the radius from 4 miles to 4.3 miles; (2) removes the name of the airport from the airspace legal description header to comply with changes to FAA Order JO 7400.2R; (3) removes the city associated with the airport from the airspace legal description to comply with changes to FAA Order JO 7400.2R; (4) adds an exclusion area south of a line from lat 37°43′22″ N, long 097°18′21″ W to lat 37°43′23″ N, long 097°07′48″ W; and (5) removes the exclusion to the McConnell AFB Class D airspace as it is no longer required.

This action establishes a part-time Class E surface area at McConnell AFB within a 4.6-mile radius of the airport excluding that airspace within a 1-mile radius of Beech Factory Airport and within the Wichita, KS, Class C airspace area.

This action establishes a Class E airspace area designated as an extension to Class C airspace at Wichita Dwight D. Eisenhower National Airport, Wichita, KS, within 7.2 miles each side of the 126° bearing from the Wichita VORTAC extending from the Wichita VORTAC 126° bearing at 1.3 miles southeast to the Wichita VORTAC 126° bearing at 9.2 miles.

This action removes the Class E airspace area designated as an extension to a Class D surface area at McConnell AFB as it is no longer required.

For the Wichita, KS, Class E airspace extending upward from 700 feet above the surface, this action: (1) increases the radius from 7.2 miles to 7.9 miles at Wichita Dwight D. Eisenhower National Airport; (2) modifies the extension to within 1.1 miles (reduced from 4 miles west east) each side of the 126°/306° bearings of the Wichita VORTAC (previously the Mid-Continent Airport ILS localizer course to runway 1L) extending from the 7.9-mile radius (previously airport) of the Wichita Dwight D. Eisenhower National Airport to 9.5 miles (reduced from 13 miles) northwest (previously south) of the Wichita Dwight D. Eisenhower National Airport (previously airport to 7.4 miles north of the airport); (3) adds an extension within 4 miles each side of the 200° bearing from the Wichita Dwight D. Eisenhower NTL: RWY 01R-LOC extending from the 7.9-mile radius of Wichita Dwight D. Eisenhower National Airport to 12.3 miles south of Wichita Dwight D. Eisenhower National Airport; (4) updates the name and geographic coordinates of the Wichita Dwight D. Eisenhower NTL: RWY 01R-LOC (previously Wichita Mid-Continent Localizer Runway 1L) and McConnell AFB (previously McConnell Air Force Base) to coincide with the FAA's aeronautical database; (5) updates the name of Wichita Dwight D. Eisenhower National Airport (previously Wichita Mid-Continent Airport) to coincide with the FAA's aeronautical database; (6) increases the radius from 7 miles to 7.1 miles at McConnell AFB; (7) removes the Wichita McConnell Air Force Base, KS, listing associated with the localizer and the associated extension south of the McConnell AFB from the airspace legal description as they are no longer required; (8) removes the cities associated with McConnell AFB and Colonel James Jabara Airport to comply with changes to FAA Order JO 7400.2R; (9) increases the radius from 6.4 miles to 6.8 miles at Augusta Municipal Airport; (10) updates the geographic coordinates of Augusta Municipal Airport to coincide with the FAA's aeronautical database; (11) increases the radius from 6.5 miles to 6.8 miles of Colonel James Jabara Airport; (12) removes the AUBRA Waypoint and the associated extension from the airspace legal description as they are no longer required; and (13) removes the name of Wichita Mid-Continent Airport from the airspace legal description header to comply with changes to FAA Order JO 7400.2R.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1G, “FAA National Environmental Policy Act Implementing Procedures.” This airspace action is not expected to cause any potentially significant environmental impacts, and no extraordinary circumstances exist that warrant preparation of an environmental assessment.

Lists of Subjects in 14 CFR 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025 and effective September 15, 2025, is amended as follows:

Paragraph 5000 Class D Airspace.

* * * * *

ACE KS D Wichita, KS [Amended]

Beech Factory Airport, KS

(Lat 37°41′38″ N, long 097°12′54″ W)

That airspace extending upward from the surface to and including 2,700 feet MSL within a 4.4-mile radius of Beech Factory Airport excluding that airspace within the McConnell AFB, KS, Class D airspace area and Class E surface area and excluding that portion north of a line from lat 37°43′22″ N, long 097°18′21″ W to lat 37°43′23″ N, long 097°07′48″ W. This Class D airspace area is effective during the specific dates and times established in advance by a Notice to Airmen. The effective dates and times will thereafter be continuously published in the Chart Supplement.

ACE KS D Wichita, KS [Amended]

McConnell AFB, KS

(Lat 37°37′23″ N, long 097°16′03″ W)

Beech Factory Airport, KS

(Lat 37°41′38″ N, long 097°12′54″ W)

That airspace extending upward from the surface to and including 3,900 feet MSL within a 4.6-mile radius of McConnell AFB excluding that airspace within a 1-mile radius of Beech Factory Airport and excluding that portion within the Wichita, KS, Class C airspace area. This Class D airspace area is effective during the specific dates and times established in advance by a Notice to Airmen. The effective dates and times will thereafter be continuously published in the Chart Supplement.

* * * * *

6002 Class E Airspace Areas Designated as Surface Areas.

* * * * *

ACE KS E2 Wichita, KS [Amended]

Beech Factory Airport, KS

(Lat 37°41′38″ N, long 097°12′54″ W)

That airspace extending upward from the surface within a 4.4-mile radius of Beech Factory Airport excluding that airspace within the McConnell AFB, KS, Class D airspace and Class E surface airspace areas and excluding that portion north of a line from lat 37°43′22″ N, long 097°18′21″ W to lat 37°43′23″ N, long 097°07′48″ W. This Class E airspace area is effective during the specific dates and times established in advance by a Notice to Airmen. The effective dates and times will thereafter be continuously published in the Chart Supplement.

ACE KS E2 Wichita, KS [Amended]

Colonel James Jabara Airport, KS

(Lat 37°44′51″ N, long 097°13′16″ W)

That airspace extending upward from the surface within a 4.3-mile radius of Colonel James Jabara Airport excluding that airspace south of the line from lat 37°43′22″ N, long 097°18′21″ W to lat 37°43′23″ N, long 097°07′48″ W and excluding that portion within the Wichita, KS, Class C airspace area.

ACE KS E2 Wichita, KS [Establish]

McConnell AFB, KS

(Lat 37°37′23″ N, long 097°16′03″ W)

Beech Factory Airport, KS

(Lat 37°41′38″ N, long 097°12′54″ W)

That airspace extending upward from the surface within a 4.6-mile radius of McConnell AFB excluding that airspace within a 1-mile radius of Beech Factory Airport and excluding that portion within the Wichita, KS, Class C airspace area. This Class E airspace area is effective during the specific dates and times established in advance by a Notice to Airmen. The effective dates and times will thereafter be continuously published in the Chart Supplement.

* * * * *

6003 Class E Airspace Areas Designated as an Extension.

* * * * *

ACE KS E3 Wichita, KS [Establish]

Wichita Dwight D. Eisenhower National Airport, KS

(Lat 37°39′00″ N, long 097°25′59″ W)

Wichita VORTAC

(Lat 37°44′43″ N, long 097°35′02″ W)

That airspace extending upward from the surface within 7.2 miles each side of the 126° bearing from the Wichita VORTAC extending from the Wichita VORTAC 126° bearing at 1.3 miles southeast to the Wichita VORTAC 126° bearing at 9.2 miles.

* * * * *

6004 Class E Airspace Areas Designated as an Extension to a Class D or Class E Surface Area.

* * * * *

ACE KS E4 Wichita, McConnell AFB, KS [Remove]

* * * * *

Paragraph 6005 Class E Airspace Areas Extending Upward From 700 Feet or More Above the Surface of the Earth.

* * * * *

ACE KS E5 Wichita, KS [Amended]

Wichita Dwight D. Eisenhower National Airport, KS

(Lat 37°39′00″ N, long 097°25′59″ W)

Wichita VORTAC

(Lat 37°44′43″ N, long 097°35′02″ W)

Wichita Dwight D. Eisenhower NTL: RWY 01R-LOC

(Lat 37°39′52″ N, long 097°24′59″ W)

McConnell AFB, KS

(Lat 37°37′23″ N, long 097°16′03″ W)

Augusta Municipal Airport, KS

(Lat 37°40′11″ N, long. 097°04′41″ W)

Colonel James Jabara Airport, KS

(Lat 37°44′51″ N, long. 097°13′16″ W)

The airspace extending upward from 700 feet above the surface within a 7.9-mile radius of Wichita Dwight D. Eisenhower National Airport; and within 1.1 miles each side of the 126°/306° bearings from the Wichita VORTAC extending from the 7.9-mile radius of Wichita Dwight D. Eisenhower National Airport to 9.5 miles northwest of the Wichita Dwight D. Eisenhower National Airport; and within 4 miles each side of the 200° bearing from the Wichita Dwight D. Eisenhower NTL: RWY 01R-LOC extending from the 7.9-mile radius of Wichita Dwight D. Eisenhower National Airport to 12.3 miles south of Wichita Dwight D. Eisenhower National Airport; and within a 7.1-mile radius of McConnell AFB; and within a 6.8-mile radius of the Augusta Municipal Airport; and within a 6.8-mile radius of the Colonel James Jabara Airport.

* * * * *

Issued in Fort Worth, Texas, on December 1, 2025.
Jerry J. Creecy,
Acting Manager, Operations Support Group, ATO Central Service Center.

[FR Doc. 2025-21803 Filed 12-2-25; 8:45 am]

BILLING CODE 4910-13-P